NEIGHBORHOOD REINVESTMENT CORPORATION

Audit Committee Meeting; Sunshine Act

TIME & DATE: 9:00 a.m., Tuesday, September 29, 2015.

PLACE: NeighborWorks America—Gramlich Boardroom, 999 North Capitol Street NE., Washington DC 20002.

STATUS: Open (with the exception of Executive Sessions).

CONTACT PERSON: Jeffrey Bryson, General Counsel/Secretary, (202) 760-4101; jbryson@nw.org.

AGENDA:

I. CALL TO ORDER

II. Executive Session with the External Auditors

III. Executive Session with the Chief Audit Executive

IV. Executive Session: Pending Litigation

V. OHTS Watch List Review

VI. FY 2016 Risk Assessment & Internal Audit Plan

VII. Internal Audit Reports with Management's Response

VIII. Internal Audit Status Reports

IX. Compliance Update

X. Other External Audit Reports

XI. Adjournment

Jeffrey T. Bryson,
EVP & General Counsel/Corporate Secretary.

[FR Doc. 2015-24439 Filed 9-22-15; 4:15 pm]

BILLING CODE 7570-02-P